OFFICE OF PERSONNEL MANAGEMENT

Submission for OMB Review; Comment Request for Review of a Revised Information Collection: OPM Form 1300, Presidential Management Fellows Program Nomination Form

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. The OPM Form 1300 is used by accredited colleges and universities to nominate eligible graduate students to the Presidential Management Fellows (PMF) Program.

As a result of Executive Order 13318 and OPM regulations on the PMF Program issued on May 19, 2005 (Federal Register, Vol. 70, No. 96, Page 28775), effective June 20, 2005, eligible graduate students interested in applying to the PMF Program must be nominated by their accredited graduate school's Dean, Chairperson, or Academic Program Director (otherwise referred to as the Nomination Official).

No comments were received during the 60-day comment period posted on October 5, 2006 (Federal Register, Vol. 71, No. 193, No. 193, Page 58888).

Approximately 3,000 Nomination Forms are projected to be completed annually. We estimate it takes approximately 30 minutes to complete the form. The annual burden is 1,500 hours.

For copies of this proposal, contact Mary Beth Smith-Toomey on (202) 606-8358, FAX (202) 418-3251, or via e-mail to MaryBeth.Smith-Toomey@opm.gov. Please include a mailing address with your request.

DATES: Comments on this proposal should be received within 30 calendar days from the date of this publication.

ADDRESSES: Send or deliver comments to—Rob Timmins, Business Operations Manager, Presidential Management Fellows Program, U.S. Office of Personnel Management, 1900 E Street, NW., Room 1425, Washington, DC 20415 and Brenda Aguilar, OPM Desk Officer, Office of Information & Regulatory Affairs, Office of Management and Budget, New Executive Office Building, NW., Room 10235, Washington, DC 20503.

Office of Personnel Management.
Howard Weizmann,
Deputy Director.

[FR Doc. E7-18871 Filed 9-24-07; 8:45 am]

BILLING CODE 6325-38-P